DEPARTMENT OF ENERGY

Federal Energy Regulatory Commission

[Docket Nos. RM96-1-024, RM96-1-024, RP03-443-001, RP03-442-001, RP03-444-001, RP03-403-002, RP03-445-001, and RP03-525-001]

Garden Banks Gas Pipeline, LLC, Mississippi Canyon Gas Pipeline , LLC, Nautilus Pipeline Company, L.L.C., PG&E Gas Transmission, Northwest Corporation, Stingray Pipeline Company, L.L.C., Western Gas Interstate Company: Standards For Business Practices of Interstate Natural Gas Pipelines; Notice of Compliance Filings

July 25, 2003.

Take notice that the above-referenced pipelines filed revised tariff sheets to comply with Commission orders in regarding compliance with Order No. 587-R, Docket No. RM96-1-024 issued by the Commission on March 12, 2003.¹ These revised tariff sheets are to be effective July 1, 2003.

¹ Standards for Business Practices of Interstate Natural Gas Pipelines, Order No. 587-R, 102 FERC ¶61,273, 68 FR 13813 (March 21, 2003), III FERC Stats. & Regs. Regulations, ¶31,141 (March 12, 2003).

On March 12, 2003, the Commission issued Order No. 587-R, which among other things, amended 18 CFR 284.12 of its regulations to incorporate by reference the most recent version of the standards promulgated by the Wholesale Gas Quadrant of the North American Energy Standards Board (NAESB), i.e., NAESB Standards Version 1.6, and the Wholesale Gas Quadrant's standards governing partial day recalls (Recommendations R02002 and R02002-2), adopted October 31, 2002. Each of the pipelines listed above filed tariff sheets to comply with Order No. 587-R, and the Commission issued orders requiring further modifications to the tariff sheets. The instant filings reflect modifications to comply with the Commission's orders.

Protests cannot be filed jointly in all dockets, but must be filed individually in each docket.

Any person desiring to protest said filing should file a protest with the Federal Energy Regulatory Commission, 888 First Street, NE., Washington, DC 20426, in accordance with 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 4, 2003.
Magalie R. Salas,
Secretary.

[FR Doc. 03-19601 Filed 7-31-03; 8:45 am]

BILLING CODE 6717-01-P